DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 3, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On December 3, 2025, OFAC determined that that the property and interests in property subject to U.S. jurisdiction of the following persons are blocked under the relevant sanctions authorities listed below.

Individuals

1. ESCOBAR CABRERA, Asdrubal Rafael (a.k.a. “El Asdrubal”), Venezuela; DOB 04 Aug 1992; POB Venezuela; nationality Venezuela; citizen Venezuela; Gender Male; Secondary sanctions risk: section 1(b) of Executive Order 13224, as amended by Executive Order 13886; Cedula No. 21269516 (Venezuela) (individual) [SDGT] [TCO] (Linked To: TREN DE ARAGUA).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended) for being owned or controlled by, or having acted or purported to act for or on behalf of, directly or indirectly, Tren De Aragua, a person whose property and interests in property are blocked pursuant to E.O. 13581, as amended.

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended) for being owned, controlled, or directed by, or having acted or purported to act for or on behalf of, directly or indirectly, Tren De Aragua, a person whose property and interests in property are blocked pursuant to E.O. 13224, as amended.

2. ESPINAL QUINTERO, Richard Jose (a.k.a. ESPINEL QUINTERO, Richard Jose; a.k.a. “El Coty”), Venezuela; DOB 19 Apr 1996; POB Venezuela; nationality Venezuela; citizen Venezuela; Gender Male; Secondary sanctions risk: section 1(b) of Executive Order 13224, as amended by Executive Order 13886; Cedula No. 24419648 (Venezuela) (individual) [SDGT] [TCO] (Linked To: TREN DE ARAGUA).

Designated pursuant to section 1(a)(ii)(C) of E.O. 13581, as amended, for being owned or controlled by, or having acted or purported to act for or on behalf of, directly or indirectly, Tren De Aragua, a person whose property and interests in property are blocked pursuant to E.O. 13581, as amended.

Designated pursuant to section 1(a)(iii)(A) of E.O. 13224, as amended, for being owned, controlled, or directed by, or having acted or purported to act for or on behalf of, directly or indirectly, Tren De Aragua, a person whose property and interests in property are blocked pursuant to E.O. 13224, as amended.

3. GUERRERO PALMA, Cheison Royer (a.k.a. “Arabe Negro”; a.k.a. “Mexicali”), Chile; DOB 16 Feb 1985; POB Maracay, Aragua, Venezuela; nationality Venezuela; Gender Male; Secondary sanctions risk: section 1(b) of Executive Order 13224, as amended by Executive Order 13886; Cedula No. 17984659 (Venezuela) (individual) [SDGT] [TCO] (Linked To: TREN DE ARAGUA).

Designated pursuant to section 1(a)(ii)(C) of E.O. 13581, as amended, for being owned or controlled by, or having acted or purported to act for or on behalf of, directly or indirectly, Tren De Aragua, a person whose property and interests in property are blocked pursuant to E.O. 13581, as amended.

Designated pursuant to section 1(a)(iii)(A) of E.O. 13224, as amended, for being owned, controlled, or directed by, or having acted or purported to act for or on behalf of, directly or indirectly, Tren De Aragua, a person whose property and interests in property are blocked pursuant to E.O. 13224, as amended.

4. SEVILLA ARTEAGA, Kenffersso Jhosue (a.k.a. MARTINEZ LOPEZ, Jose Daniel; a.k.a. SEVILLA ARTEGA, Kenffersso Jhosue; a.k.a. SEVILLA ATEAGA, Kenferson; a.k.a. “El Flipper”; a.k.a. “Flypper”), Colombia; DOB 29 Apr 1993; POB Venezuela; nationality Venezuela; citizen Venezuela; Gender Male; Secondary sanctions risk: section 1(b) of Executive Order 13224, as amended by Executive Order 13886; Cedula No. 21098983 (Venezuela); alt. Cedula No. 1047240759 (Colombia) (individual) [SDGT] [TCO] (Linked To: TREN DE ARAGUA).

Designated pursuant to section 1(a)(ii)(C) of E.O. 13581, as amended, for being owned or controlled by, or having acted or purported to act for or on behalf of, directly or indirectly, Tren De Aragua, a person whose property and interests in property are blocked pursuant to E.O. 13581, as amended.

Designated pursuant to section 1(a)(iii)(A) of E.O. 13224, as amended, for being owned, controlled, or directed by, or having acted or purported to act for or on behalf of, directly or indirectly, Tren De Aragua, a person whose property and interests in property are blocked pursuant to E.O. 13224, as amended.

5. APONTE CORDOVA, Noe Manases (a.k.a. “El Noe”), Venezuela; DOB 30 May 1988; POB Venezuela; nationality Venezuela; citizen Venezuela; Gender Male; Secondary sanctions risk: section 1(b) of Executive Order 13224, as amended by Executive Order 13886; Cedula No. 19554865 (Venezuela) (individual) [SDGT] [TCO] (Linked To: TREN DE ARAGUA).

Designated pursuant to section 1(a)(ii)(C) of E.O. 13581, as amended, for being owned or controlled by, or having acted or purported to act for or on behalf of, directly or indirectly, Tren De Aragua, a person whose property and interests in property are blocked pursuant to E.O. 13581, as amended.

Designated pursuant to section 1(a)(iii)(A) of E.O. 13224, as amended, for being owned, controlled, or directed by, or having acted or purported to act for or on behalf of, directly or indirectly, Tren De Aragua, a person whose property and interests in property are blocked pursuant to E.O. 13224, as amended.

6. ARAYA NAVARRO, Jimena Romina (a.k.a. “ARAYA, Jimena”; a.k.a. “Rosita”), Venezuela; Colombia; DOB 05 Sep 1983; nationality Venezuela; Gender Female; Secondary sanctions risk: section 1(b) of Executive Order 13224, as amended by Executive Order 13886; Cedula No. 16011070 (Venezuela) (individual) [SDGT] [TCO] (Linked To: TREN DE ARAGUA).

Designated pursuant to section 1(a)(ii)(B) of E.O. 13581, as amended, for having materially assisted, sponsored, or provided financial, material, or technological support for, or goods or services to or in support of, Tren De Aragua, a person whose property and interests in property are blocked pursuant to E.O. 13581, as amended.

Designated pursuant to section 1(a)(iii)(C) of E.O. 13224, as amended, for having materially assisted, sponsored, or provided financial, material, or technological support for, or goods or services to or in support of, Tren De Aragua, a person whose property and interests in property are blocked pursuant to E.O. 13224, as amended.

7. LANDAETA HERNANDEZ, Eryk Manuel (a.k.a. “Eryk”), Colombia; DOB 29 Aug 1982; nationality Venezuela; Gender Male; Secondary sanctions risk: section 1(b) of Executive Order 13224, as amended by Executive Order 13886; Cedula No. 15978329 (Venezuela) (individual) [SDGT] [TCO] (Linked To: TREN DE ARAGUA).

Designated pursuant to section 1(a)(ii)(B) of E.O. 13581, as amended, for having materially assisted, sponsored, or provided financial, material, or technological support for, or goods or services to or in support of, Tren De Aragua, a person whose property and interests in property are blocked pursuant to E.O. 13581, as amended.

Designated pursuant to section 1(a)(iii)(C) of E.O. 13224, as amended, for having materially assisted, sponsored, or provided financial, material, or technological support for, or goods or services to or in support of, Tren De Aragua, a person whose property and interests in property are blocked pursuant to E.O. 13224, as amended.

Entities

1. YAKERA Y LANE SAS (a.k.a. YAKERA YLANE S.A.S.), Cucuta, Norte de Santander, Colombia; Secondary sanctions risk: section 1(b) of Executive Order 13224, as amended by Executive Order 13886; Organization Established Date 20 Jun 2019; Organization Type: Wholesale and retail trade; NIT # 901296366-9 (Colombia) [SDGT] [TCO] (Linked To: SEVILLA ARTEAGA, Kenffersso Jhosue).

Designated pursuant to section 1(a)(ii)(C) of E.O. 13581, as amended, for being owned or controlled by, or having acted or purported to act for or on behalf of, directly or indirectly, Kenffersso Jhosue Sevilla Arteaga, a person whose property and interests in property are blocked pursuant to E.O. 13581, as amended.

Designated pursuant to section 1(a)(iii)(A) of E.O. 13224, as amended, for being owned, controlled, or directed by, or having acted or purported to act for or on behalf of, directly or indirectly, Kenffersso Jhosue Sevilla Arteaga, a person whose property and interests in property are blocked pursuant to E.O. 13224, as amended.

2. ERYK PRODUCCIONES SAS, Bogota, Colombia; Secondary sanctions risk: section 1(b) of Executive Order 13224, as amended by Executive Order 13886; Organization Established Date 23 Jun 2023; Organization Type: Creative, arts and entertainment activities; NIT # 901726321-4 (Colombia) [SDGT] [TCO] (Linked To: LANDAETA HERNANDEZ, Eryk Manuel).

Designated pursuant to section 1(a)(ii)(C) of E.O. 13581, as amended, for being owned or controlled by, or having acted or purported to act for or on behalf of, directly or indirectly, Eryk Manuel Landaeta Hernandez, a person whose property and interests in property are blocked pursuant to E.O. 13581, as amended.

Designated pursuant to section 1(a)(iii)(A) of E.O. 13224, as amended, for being owned, controlled, or directed by, or having acted or purported to act for or on behalf of, directly or indirectly, Eryk Manuel Landaeta Hernandez, a person whose property and interests in property are blocked pursuant to E.O. 13224, as amended.

3. GLOBAL IMPORT SOLUTIONS S.A., Anaco, Anzoategui, Venezuela; Secondary sanctions risk: section 1(b) of Executive Order 13224, as amended by Executive Order 13886; Organization Established Date 20 Jul 2021; Tax ID No. J411408778 (Venezuela) [SDGT] [TCO] (Linked To: ARAYA NAVARRO, Jimena Romina).

Designated pursuant to section 1(a)(ii)(C) of E.O. 13581, as amended, for being owned or controlled by, or having acted or purported to act for or on behalf of, directly or indirectly, Jimena Romina Araya Navarro, a person whose property and interests in property are blocked pursuant to E.O. 13581, as amended.

Designated pursuant to section 1(a)(iii)(A) of E.O. 13224, as amended, for being owned, controlled, or directed by, or having acted or purported to act for or on behalf of, directly or indirectly, Jimena Romina Araya Navarro, a person whose property and interests in property are blocked pursuant to E.O. 13224, as amended.

4. MAIQUETIA VIP BAR RESTAURANT (a.k.a. MAIQUETIA VIP; a.k.a. “DISCOTECA MAIQUETIA VIP”), Cl. 17 Sur #16-54, Bogota, Colombia; Secondary sanctions risk: section 1(b) of Executive Order 13224, as amended by Executive Order 13886; Organization Established Date 17 Dec 2020; Organization Type: Beverage serving activities; Matricula Mercantil No 3319256 (Colombia) [SDGT] [TCO] (Linked To: LANDAETA HERNANDEZ, Eryk Manuel).

Designated pursuant to section 1(a)(ii)(C) of E.O. 13581, as amended, for being owned or controlled by, or having acted or purported to act for or on behalf of, directly or indirectly, Eryk Manuel Landaeta Hernandez, a person whose property and interests in property are blocked pursuant to E.O. 13581, as amended.

Designated pursuant to section 1(a)(iii)(A) of E.O. 13224, as amended, for being owned, controlled, or directed by, or having acted or purported to act for or on behalf of, directly or indirectly, Eryk Manuel Landaeta Hernandez, a person whose property and interests in property are blocked pursuant to E.O. 13224, as amended.

(Authority: 31 CFR chapter V)

Dated: December 3, 2025.
Bradley T. Smith,
Director, Office of Foreign Assets Control.

[FR Doc. 2025-22061 Filed 12-4-25; 8:45 am]

BILLING CODE 4810-AL-P